ENVIRONMENTAL PROTECTION AGENCY

[EPA-HQ-OPP-2017-0619; FRL-9983-97-OEI]

Agency Information Collection Activities; Submitted to OMB for Review and Approval; Comment Request; Pesticide Program Public Sector Collections (FIFRA Sections 18 & 24(c)) (Renewal)

AGENCY: Environmental Protection Agency (EPA).

ACTION: Notice.

SUMMARY: The Environmental Protection Agency (EPA) has submitted the following information collection request (ICR) to the Office of Management and Budget (OMB) for review and approval in accordance with the Paperwork Reduction Act (PRA): Pesticide Program Public Sector Collections (FIFRA Sections 18 & 24(c)) (EPA ICR Number 2311.03 and OMB Control Number 2070-0182). The ICR, which is available in the docket along with other related materials, provides a detailed explanation of the collection activities and the burden estimate that is only briefly summarized in this document. This is a request to renew the approval of an existing ICR, which is currently approved through October 31, 2018. EPA did not receive any comments in response to the previously provided public review opportunity issued in the Federal Register on May 18, 2018. With this submission, EPA is providing an additional 30 days for public review.

DATES: Comments must be received on or before November 26, 2018.

ADDRESSES: Submit your comments, identified by docket identification (ID) number EPA-HQ-OPP-2017-0619, to both EPA and OMB as follows:

• To EPA online using http://www.regulations.gov (our preferred method) or by mail to: EPA Docket Center, Environmental Protection Agency, Mail Code 28221T, 1200 Pennsylvania Ave. NW, Washington, DC 20460.

• To OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Connie Hernandez, Field and External Affairs Division (7506P), Office of Pesticide Programs, Environmental Protection Agency, 1200 Pennsylvania Ave. NW, Washington, DC 20460-0001; telephone number: (703) 305-5190; email address: Hernandez.Connie@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW, Washington, DC. The telephone number for the Docket Center is (202) 566-1744. For additional information about EPA's public docket, visit http://www.epa.gov/dockets.

ICR status: This ICR is currently scheduled to expire on October 31, 2018. Under OMB regulations, the Agency may continue to conduct or sponsor the collection of information while this submission is pending at OMB. EPA did not receive any comments in response to the previously provided public review opportunity issued in the Federal Register on May 18, 2018 (83 FR 23274).

Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: This ICR covers the paperwork burden associated with two types of pesticide registration requests made by states, U.S. Territories, or Federal agencies under the Federal Insecticide, Fungicide, and Rodenticide Act (FIFRA), 7 U.S.C. 136a et seq.: (1) Emergency exemption requests under FIFRA section 18, which allow for an unregistered use pesticide; and (2) Requests by states to register a pesticide use to meet a special local need (SLN) under FIFRA section 24(c).

FIFRA section 18 allows EPA to grant emergency exemptions to states, U.S. Territories, and Federal agencies to allow an unregistered pesticide for a limited time if EPA determines that emergency conditions exists. FIFRA section 18 requests include unregistered pesticide use exemptions for specific agricultural, public health and quarantine purposes. FIFRA section 24(c) allows EPA to grant permission to a particular state to register additional uses of a federally registered pesticide for distribution and use within that state to meet a SLN.

Respondents/Affected Entities: Pesticides registrants, which may be identified by North American Classification System (NAICS) codes 325320 (pesticide and other agricultural chemical manufacturing), and 9241 (governments that administer environmental quality programs).

Respondent's obligation to respond: Mandatory (FIFRA Sections 3 & 11).

Estimated total number of potential respondents: 283.

Frequency of response: On occasion.

Estimated total burden: 25,753 hours. Burden is defined at 5 CFR 1320.3(b).

Estimated total costs: $1,829,103, includes $0 annualized capital investment or maintenance and operational costs.

Changes in the estimates: There is an overall estimated decrease of 8,422 hours in the total estimated respondent burden compared with that identified in the ICR currently approved by OMB. This change corresponds with a decrease in the estimated average annual number of submissions that the Agency has projected it might receive in the future, i.e., the projection for the estimated number of annual FIFRA section 18 submissions decreased from 185 to 143 (burden decrease of 4,158 hours), and the projection for the estimated number of annual FIFRA section 24(c) submissions decreased from about 305 to 223 (burden decrease of 4,264 hours). This change is an adjustment.

Courtney Kerwin,
Director, Collection Strategies Division.

[FR Doc. 2018-23426 Filed 10-25-18; 8:45 am]

BILLING CODE 6560-50-P